DEPARTMENT OF TRANSPORTATION

Federal Railroad Administration

[Docket No. FRA-2011-0027; Notice No. 6]

Northeast Corridor Safety Committee; Notice of Meeting

AGENCY: Federal Railroad Administration (FRA), Department of Transportation (DOT).

ACTION: Announcement of the Northeast Corridor Safety Committee (NECSC) Meeting.

SUMMARY: FRA announces the fourth meeting of the Northeast Corridor Safety Committee, a Federal Advisory Committee mandated by Section 212 of the Passenger Rail Investment and Improvement Act of 2008 (PRIIA). The Committee is made up of stakeholders operating on the Northeast Corridor, and the purpose of the Committee is to provide annual recommendations to the Secretary of Transportation. NECSC meeting topics will include: Status of frequency spectrum recommendation to the Secretary, Northeast Corridor train inspection and testing, and a general discussion of safety issues.

DATES: The meeting of the NECSC is scheduled to commence on Thursday, June 13, 2013, at 9:00 a.m., and will adjourn by 4:30 p.m.

ADDRESSES: The Northeast Corridor Safety Committee meeting will be held at the Hilton DoubleTree Hotel located at 1515 Rhode Island Avenue NW., Washington, DC 20005. The meeting is open to the public on a first-come, first-served basis, and is accessible to individuals with disabilities. Sign and oral interpretation can be made available if requested 10 calendar days before the meeting.

FOR FURTHER INFORMATION CONTACT: Mr. Larry Woolverton, NECSC Administrative Officer/Coordinator, FRA, 1200 New Jersey Avenue SE., Mailstop 25, Washington, DC 20590, (202) 493-6212; or Mr. Michael Logue, Acting Associate Administrator for Railroad Safety/Chief Safety Officer, FRA, 1200 New Jersey Avenue SE., Mailstop 25, Washington, DC 20590, (202) 493-6300.

SUPPLEMENTARY INFORMATION: The NECSC is mandated by a statutory provision in Section 212 of the PRIIA (codified at 49 U.S.C. 24905(f)). The Committee is chartered by the Secretary of Transportation and is an official Federal Advisory Committee established in accordance with the provisions of the Federal Advisory Committee Act, as amended, 5 U.S.C. Title 5-Appendix.

Issued in Washington, DC, on April 15, 2013.
Michael J. Logue,
Acting Associate Administrator for Railroad Safety/Chief Safety Officer.

[FR Doc. 2013-09331 Filed 4-19-13; 8:45 am]

BILLING CODE 4910-06-P